NUCLEAR REGULATORY COMMISSION

[Docket No. 50-397; NRC-2010-0029]

Energy Northwest, Columbia Generating Station; Record of Decision and Issuance of Renewed Facility Operating License for an Additional 20-Year Period

AGENCY: Nuclear Regulatory Commission.

ACTION: License renewal application; issuance.

SUMMARY: The U.S. Nuclear Regulatory Commission (NRC or the Commission) has issued renewed facility operating license No. NPF-21 to Energy Northwest (the licensee), the operator of the Columbia Generating Station (Columbia). Renewed facility operating license No. NPF-21 authorizes operation of Columbia by the licensee at reactor core power levels not in excess of 3,486 megawatts thermal in accordance with the provisions of the Columbia renewed operating license and its technical specifications. This also serves as the record of decision for the renewal of facility operating license No. NPF-21, consistent with the NRC's regulations.

ADDRESSES: Please refer to Docket ID NRC-2010-0029 when contacting the NRC about the availability of information regarding this document. You may access information related to this document, which the NRC possesses and are publicly available, using any of the following methods:

• Federal Rulemaking Web site: Go to http://www.regulations.gov and search for Docket ID NRC-2010-0029. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Mr. Arthur Cunanan, Project Manager, Office of Nuclear Reactor Regulation, U.S. Nuclear Regulatory Commission, Washington, DC 20555-0001; telephone: 301-415-3897; email: Arthur.Cunanan@nrc.gov.

SUPPLEMENTARY INFORMATION:

Discussion

Notice is hereby given that the NRC has issued renewed facility operating license No. NPF-21 to Energy Northwest, the operator of Columbia. Renewed facility operating license No. NPF-21 authorizes operation of Columbia by the licensee at reactor core power levels not in excess of 3,486 megawatts thermal in accordance with the provisions of the Columbia renewed operating license and its technical specifications.

The notice also serves as the record of decision for the renewal of facility operating license No. NPF-21, consistent with Title 10 of the Code of Federal Regulations (10 CFR) 51.103. As discussed in the final supplemental environmental impact statement for Columbia, Supplement 47 to NUREG-1437, “Generic Environmental Impact Statement for License Renewal of Nuclear Plants (GEIS) Regarding Columbia Generating Station,” dated April 2012 (ADAMS Accession Nos. ML12096A334 and ML12096A336), the Commission has considered a range of reasonable alternatives that included: (1) Natural gas-fired combined cycle (NGCC); (2) new nuclear; (3) combination alternative (NGCC), hydroelectric, wind, and conservation and efficiency); (4) offsite new nuclear and NGCC; (5) coal-fired power; (6) energy conservation and energy efficiency; (7) purchased power; (8) solar power; (9) wind power; (10) biomass waste; (11) hydroelectric power; (12) ocean wave and current energy; (13) geothermal power; (14) municipal solid waste; (15) biofuels; (16) oil-fired power; (17) fuel cells; (18) delayed retirement; and (19) the no-action alternative. The factors considered in the record of decision can be found in the final supplemental environmental impact statement for Columbia.

Columbia is a boiling-water reactor located in Benton County, Richland, Washington. The application for the renewed license, “Columbia Generating Station License Renewal Application,” dated January 2012 (ADAMS Accession No. ML100250656), complied with the standards and requirements of the Atomic Energy Act of 1954, as amended (the Act), and the Commission's regulations. As required by the Act and the Commission's regulations in 10 CFR Chapter I, the Commission has made appropriate findings, which are set forth in the license. Prior public notice of the action involving the proposed issuance of the renewed license and of an opportunity for a hearing regarding the proposed issuance of the renewed license was published in the Federal Register on March 11, 2010 (75 FR 11576).

For further details with respect to this action, see: (1) Energy Northwest's license renewal application for Columbia Generating Station dated January 19, 2010, as supplemented by letters dated through April 23, 2012; (2) the Commission's safety evaluation report NUREG-2123, “Safety Evaluation Report Related to the License Renewal of Columbia Generating Station,” dated May 2012 (ADAMS Accession Nos. ML12139A300 and ML12139A302); (3) the licensee's Final Safety Analysis Report; and (4) the Commission's final environmental impact statement (NUREG-1437, Supplement 47), for the Columbia Generating Station, published April 2012.

Dated at Rockville, Maryland, this 22nd day of May, 2012.
For the Nuclear Regulatory Commission.
Dennis Morey,
Chief, Projects Branch 1, Division of License Renewal, Office of Nuclear Reactor Regulation.

[FR Doc. 2012-13041 Filed 5-29-12; 8:45 am]

BILLING CODE 7590-01-P